DEPARTMENT OF AGRICULTURE

Grain Inspection, Packers and Stockyards Administration

Designation for the Columbus (OH), Farwell (TX), and Northeast Indiana (IN) Areas

AGENCY: Grain Inspection, Packers and Stockyards Administration, USDA. (04-02-S)

ACTION: Notice.

SUMMARY: Grain Inspection, Packers and Stockyards Administration (GIPSA) announces designation of the following organizations to provide official services under the United States Grain Standards Act, as amended (Act): Columbus Grain Inspection, Inc. (Columbus); Farwell Grain Inspection, Inc. (Farwell); and Northeast Indiana Grain Inspection, Inc. (Northeast Indiana).

DATES: Effective Date: January 1, 2005.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the June 1, 2004, Federal Register (69 FR 30869), GIPSA asked persons interested in providing official services in the geographic areas assigned to the official agencies named above to submit an application for designation. Applications were due by July 1, 2004.

Columbus, Farwell, and Northeast Indiana were the sole applicants for designation to provide official services in the entire area currently assigned to them, so GIPSA did not ask for additional comments on them.

GIPSA evaluated all available information regarding the designation criteria in Section 7(f)(l)(A) of the Act and, according to Section 7(f)(l)(B), determined that Columbus, Farwell, and Northeast Indiana are able to provide official services in the geographic areas specified in the June 1, 2004, Federal Register, for which they applied. These designation actions to provide official inspection services are effective January 1, 2005, and terminate December 31, 2007. Interested persons may obtain official services by calling the telephone numbers listed below.

Official agency | Headquarters location and telephone
Columbus | Circleville, OH—740-474-3519; Additional location: Bucyrus, OH
Farwell | Farwell, TX—806-481-9052; Additional location: Casa Grande, AZ
Northeast Indiana | Hoagland, IN—260-639-6390

Authority: Pub. L. 94-582, 90 Stat. 2867, as amended (7 U.S.C. 71 et seq.).

Donna Reifschneider,
Administrator, Grain Inspection, Packers and Stockyards Administration.

[FR Doc. 04-26289 Filed 11-30-04; 8:45 am]

BILLING CODE 3410-EN-P